DEPARTMENT OF AGRICULTURE

Food Safety Inspection Service

[Docket No. 04-031C]

Nominations for Membership on the National Advisory Committee on Microbiological Criteria for Foods

AGENCY: Food Safety and Inspection Service (FSIS), USDA.

ACTION: Correction.

SUMMARY: The Food Safety and Inspection Service published a document in the Federal Register on October 22, 2004, concerning Nominations for Membership on the National Advisory Committee on Microbiological Criteria for Foods. Correction: In the Federal Register of October 22, 2004, Volume 69, Number 204, on page 62017, in the first paragraph and SUMMARY, the following sentence should have appeared: “Persons from State and Federal governments, industry, consumer groups, and academia, as well as all other interested persons, are invited to submit nominations”. Please note that “consumer groups” and “all other interested parties” had been inadvertently omitted from the sentence that originally appeared. The Agency is publishing this corrected notice and will accept nominations 30 calendar days from the date of the publication of this corrected notice.

This corrected notice announces that the U.S. Department of Agriculture (USDA) is soliciting nominations for membership on the National Advisory Committee on Microbiological Criteria for Foods (NACMCF). Nominations for membership are being sought from individuals with scientific expertise in the fields of epidemiology, food technology, microbiology (food, clinical, and predictive), risk assessment, infectious disease, biostatistics, and other related sciences. Persons from State and Federal governments, industry, consumer groups, and academia, as well as all other interested persons, are invited to submit nominations. Members who are not Federal government employees will be appointed to serve as non-compensated special government employees (SGEs). SGEs will be subject to appropriate conflict of interest statutes and standards of ethical conduct.

DATES: The nominee's typed resume or curriculum vitae must be received by December 4, 2004.

ADDRESSES: Nominations should be sent to Ms. Karen Thomas, Advisory Committee Specialist, USDA, Food Safety and Inspection Service, Room 333 Aerospace Center, 1400 Independence Avenue, SW., Washington, DC 20250-3700.

FOR FURTHER INFORMATION CONTACT: Ms. Karen Thomas, Advisory Committee Specialist, at the above address or by telephone 202-690-6620 or FAX 202-690-6634.

SUPPLEMENTARY INFORMATION:

Background

The NACMCF was established in March 1988, in response to a recommendation in a 1985 report of the National Academy of Sciences Committee on Food Protection, Subcommittee on Microbiological Criteria, “An Evaluation of the Role of Microbiological Criteria for Foods.” The current charter for the NACMCF and other information about the Committee are available for viewing on the NACMCF home page at http://www.fsis.usda.gov/About_FSIS/NACMCF/index.asp.

The Committee provides scientific advice and recommendations to the Secretary of Agriculture and the Secretary of Health and Human Services concerning the development of microbiological criteria by which the safety and wholesomeness of food can be assessed. For example, the Committee assists in the development of criteria for microorganisms that indicate whether food has been processed using good manufacturing practices.

Appointments to the Committee will be made by the Secretary of Agriculture after consultation with the Secretary of Health and Human Services to ensure that recommendations made by the Committee take into account the needs of the diverse groups served by the Department. Membership shall include, to the extent practicable, individuals with demonstrated ability to represent minorities, women, and persons with disabilities.

Given the complexity of issues, the full Committee expects to meet at least once yearly, and the meetings will be announced in the Federal Register. The subcommittees will meet as deemed necessary by the chairperson and will be held as working group meetings in an open public forum. The subcommittee meetings will not be announced in the Federal Register. FSIS will announce the agenda and subcommittee working group meetings through the Constituent Update available on-line at http://www.fsis.usda.gov. NACMCF holds subcommittee working group meetings in order to accomplish the work of NACMCF; all work accomplished by the subcommittees is reviewed and approved by the full Committee during a public meeting of the full Committee, as announced in the Federal Register. The subcommittee may invite technical experts to present information for consideration by the subcommittee. All data and records available to the full Committee are expected to be available to the public at the time the full Committee reviews and approves the work of the subcommittee.

Appointment to the Advisory Committee is a two-year term; renewable for a total of three consecutive terms. Members must be prepared to work outside of scheduled Committee and subcommittee meetings, and may be required to assist in document preparation. Committee members serve on a voluntary basis; however, travel reimbursement and per diem are available.

Regarding Nominees Who Are Selected

All nominees who are selected must submit a USDA Advisory Committee Membership Background Information form AD-755, available on-line at: http://www.fsis.usda.gov/FSISForms/AD-755.pdf.

In particular to their appointment, SGEs must complete the Office of Government Ethics (OGE) 450 Confidential Financial Disclosure Report, as new entrants before rendering any advice, or prior to their first meeting. All members will be reviewed for conflict of interest pursuant to 18 U.S.C. 208 in relation to specific NACMCF work charges. Financial disclosure updates will be required of members before each meeting. Members must report any changes in financial holdings requiring additional disclosure. OGE 450 forms are available on-line at: http://www.usoge.gov/pages/forms_pubs_otherdocs/fpo_files/forms/fr450fill_03.pdf.

Additional Public Notification

Public awareness of all segments of rulemaking and policy development is important. Consequently, in an effort to ensure that the public and in particular minorities, women, and persons with disabilities, are aware of this notice, FSIS will announce it both on-line through the FSIS Web page located at http://www.fsis.usda.gov and the NACMCF Web page at http://www.fsis.usda.gov/About_FSIS/NACMCF/index.asp.

FSIS also will make copies of this Federal Register publication available through the FSIS Constituent Update, which is used to provide information regarding FSIS policies, procedures, regulations, Federal Register notices, FSIS public meetings, recalls, and other types of information that could affect or would be of interest to our constituents and stakeholders. The update is communicated via Listserv, a free e-mail subscription service consisting of industry, trade, and farm groups, consumer interest groups, allied health professionals, scientific professionals, and other individuals who have requested to be included. The update also is available on the FSIS Web page. Through Listserv and the Web page, FSIS is able to provide information to a much broader, more diverse audience.

Done in Washington, DC, on: October 29, 2004.
Richard Van Blargan,
Acting Administrator.

[FR Doc. 04-24602 Filed 11-3-04; 8:45 am]

BILLING CODE 3410-DM-P